DEPARTMENT OF THE INTERIOR

Bureau of Indian Affairs

Proposed Collection of Information

AGENCY: Bureau of Indian Affairs, Interior.

ACTION: Notice.

SUMMARY: This notice announces that the Office of Indian Education Programs is seeking comments on the renewal of the Information Collection Request for the Tribal Colleges and Universities Annual Report Form, OMB Control No. 1076-0105, as required by the Paperwork Reduction Act of 1995. The Office of Indian Education Programs also seeks comments on proposed changes to the form.

DATES: Submit comments on or before June 15, 2004.

ADDRESSES: Written comments should be sent directly to Edward Parisian, Bureau of Indian Affairs, Office of Indian Education Programs, 1849 C Street, NW., Washington, DC 20240-0001. You may also send comments via facsimile to 202-208-3271.

FOR FURTHER INFORMATION CONTACT: You may request further information or obtain copies of the proposed information collection request from Garry R. Martin, 202-208-3478.

SUPPLEMENTARY INFORMATION: Each tribal college and university receiving financial assistance under the Tribally Controlled College or University Assistance Act of 1978 (Act) is required by the Act, and by 25 Code of Federal Regulations part 41, to provide an accounting of amounts and purposes for which financial assistance was expended for the preceding academic year. The information collection is also needed to assess use of Federal funds as required by the Government Performance and Results Act (GPRA) of 1993. The information collection form is being changed to respond to GPRA requirements. Even though there are additional information collection requirements as a result of GPRA, the time required to complete the form will not increase because other portions of the form have been streamlined.

Request for Comments

The Office of Indian Education Programs requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 3512, during the hours of 8 a.m. to 4:30 p.m., e.s.t., Monday through Friday except for legal holidays. If you wish to have your name and/or address withheld, you must state this prominently at the beginning of your comments. We will honor your request according to the requirements of the law. All comments from organizations or representatives will be available for review. We may withhold comments from review for other reasons.

Information Collection Abstract

OMB Control Number: 1076-0105.

Type of review: Renewal.

Title: Tribal Colleges and Universities Annual Report Form.

Brief description of collection: The respondent must provide the information under Pub. L. 95-471 to receive and maintain grant funds. The respondent must also provide the information under GPRA.

Respondents: Tribal College and University administrators.

Number of respondents: 26.

Estimated time per response: 3 hours.

Frequency of response: Annually.

Total annual burden to respondents: 78 hours.

Dated: April 8, 2004.
David W. Anderson,
Assistant Secretary—Indian Affairs.

[FR Doc. 04-8708 Filed 4-15-04; 8:45 am]

BILLING CODE 4310-6W-P